DEPARTMENT OF HEALTH AND HUMAN SERVICES

National Institutes of Health

National Institute of Environmental Health Sciences; Amended Notice of Meeting

Notice is hereby given of a change in the meeting of the Board of Scientific Counselors, National Institute Environmental Health Sciences, December 03, 2023, 07:00 p.m. to December 05, 2023, 04:45 p.m., NIEHS, Rodbell Auditorium, 111 TW Alexander Drive, Research Triangle Park, NC 27709 which was published in the Federal Register on October 05, 2023, 88 FR 69209.

Meeting is being amended to reflect updated agenda.

Name of Committee: Board of Scientific Counselors, National Institute Environmental Health Sciences ESBSC December 3-5, 2023 Meeting.

Date: December 3-5, 2023.

Closed: December 03, 2023, 7:00 p.m. to 8:00 p.m.

Agenda: Discussion of BSC Reviews.

Place: National Institute Environmental Health Sciences (NIEHS), Rodbell Auditorium, 111 TW Alexander Drive, Research Triangle Park, NC 27709 (Hybrid Meeting).

Open: December 04, 2023, 8:30 a.m. to 10:00 a.m.

Agenda: Meeting Overview and Q & A Session.

Place: National Institute Environmental Health Sciences (NIEHS), Rodbell Auditorium, 111 TW Alexander Drive, Research Triangle Park, NC 27709 (Hybrid Meeting).

Open: December 04, 2023, 10:15 a.m. to 11:55 a.m.

Agenda: Q & A Session.

Place: National Institute Environmental Health Sciences (NIEHS), Rodbell Auditorium 111 TW Alexander, Drive Research Triangle Park, NC 27709 (Hybrid Meeting).

Closed: December 04, 2023, 11:55 a.m. to 12:40 p.m.

Agenda: 1:1 Sessions with Investigators.

Place: National Institute Environmental Health Sciences (NIEHS), Rodbell Auditorium, 111 TW Alexander Drive, Research Triangle Park, NC 27709 (Hybrid Meeting).

Closed: December 04, 2023, 12:40 p.m. to 1:30 p.m.

Agenda: Working Lunch.

Place: National Institute Environmental Health Sciences (NIEHS), Rodbell Auditorium, 111 TW Alexander Drive, Research Triangle Park, NC 27709 (Hybrid Meeting).

Open: December 04, 2023, 1:35 p.m. to 2:25 p.m.

Agenda: Q & A Session.

Place: National Institute Environmental Health Sciences (NIEHS), Rodbell Auditorium, 111 TW Alexander Drive, Research Triangle Park, NC 27709 (Hybrid Meeting).

Closed: December 04, 2023, 2:25 p.m. to 2:40 p.m.

Agenda: 1:1 Session with Investigator.

Place: National Institute Environmental Health Sciences (NIEHS), Rodbell Auditorium, 111 TW Alexander Drive, Research Triangle Park, NC 27709 (Hybrid Meeting).

Open: December 04, 2023, 2:55 p.m. to 4:25 p.m.

Agenda: Poster Session.

Place: National Institute Environmental Health Sciences (NIEHS), Rodbell Auditorium, 111 TW Alexander Drive, Research Triangle Park, NC 27709 (Hybrid Meeting).

Open: December 04, 2023, 3:30 p.m. to 4:20 p.m.

Agenda: Q & A Session.

Place: National Institute Environmental Health Sciences (NIEHS), Rodbell Auditorium, 111 TW Alexander Drive, Research Triangle Park, NC 27709 (Hybrid Meeting).

Closed: December 04, 2023, 4:25 p.m. to 5:10 p.m.

Agenda: Meeting with Fellows, Staff Scientists.

Place: National Institute Environmental Health Sciences (NIEHS), Rodbell Auditorium, 111 TW Alexander Drive, Research Triangle Park, NC 27709 (Hybrid Meeting).

Closed: December 05, 2023, 8:30 a.m. to 11:15 a.m.

Agenda: Q & A Sessions.

Place: National Institute Environmental Health Sciences (NIEHS), Rodbell Auditorium, 111 TW Alexander Drive, Research Triangle Park, NC 27709 (Hybrid Meeting).

Closed: December 05, 2023, 11:15 a.m. to 12:00 p.m.

Agenda: 1:1 Session with Investigators.

Place: National Institute Environmental Health Sciences (NIEHS), Rodbell Auditorium, 111 TW Alexander Drive, Research Triangle Park, NC 27709 (Hybrid Meeting).

Closed: December 05, 2023, 12:00 p.m. to 1:00 p.m.

Agenda: Working Lunch.

Place: National Institute Environmental Health Sciences (NIEHS), Rodbell Auditorium, 111 TW Alexander Drive, Research Triangle Park, NC 27709 (Hybrid Meeting).

Closed: December 05, 2023, 1:00 p.m. to 1:50 p.m.

Agenda: Meeting with Cores/Programs; Closed BSC Discussion and Completion of Individual Review Assignments by each Member; Closed Debriefing to NIEHS/DIR Leadership.

Place: National Institute Environmental Health Sciences (NIEHS), Rodbell Auditorium, 111 TW Alexander Drive, Research Triangle Park, NC 27709 (Hybrid Meeting).

Closed: December 05, 2023, 1:50 p.m. to 3:30 p.m.

Agenda: BSC Discussion and Completion of Individual Review Assignments by each Member.

Place: National Institute Environmental Health Sciences (NIEHS), Rodbell Auditorium, 111 TW Alexander Drive, Research Triangle Park, NC 27709 (Hybrid Meeting).

Closed: December 05, 2023, 3:45 p.m. to 4:45 p.m.

Agenda: Debriefing to NIEHS/DIR Leadership.

Place: National Institute Environmental Health Sciences (NIEHS), Rodbell Auditorium, 111 TW Alexander Drive, Research Triangle Park, NC 27709 (Hybrid Meeting).

Contact Person: Darryl C. Zeldin.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: November 1, 2023.
Miguelina Perez,
Program Analyst, Office of Federal Advisory Committee Policy.

[FR Doc. 2023-24507 Filed 11-3-23; 8:45 am]

BILLING CODE 4140-01-P